DEPARTMENT OF TRANSPORTATION

Federal Railroad Administration

Petition for a Waiver of Compliance

In accordance with Title 49, Code of Federal Regulations (CFR), Sections 211.9 and 211.41, notice is hereby given that the Federal Railroad Administration (FRA) has received a request for a waiver of compliance with certain requirements of Federal railroad safety regulations. The individual petitions are described below, including the party seeking relief, the regulatory provisions involved, the nature of the relief being requested and the petitioner's arguments in favor of relief.

Michigan State Trust for Railway Preservation, Inc.

[Docket Number FRA-2001-10379]

Michigan State Trust for Railway Preservation, Inc. (“MSTP”) and the Institute for Steam Railroading, in conjunction with the Tuscola and Saginaw Bay Railway (TSBY) seek a waiver of compliance from Title 49, part 240 of the Code of Federal Regulations (49 CFR part 240)—Qualification and Certification of Locomotive Engineers. Specifically, MSTP requests relief from that part of the regulation (49 CFR 240.201(d)) which provides that only certified persons may operate locomotives and trains. MSTP plans to offer noncertified persons the opportunity to operate a locomotive when participating in its “engineer-for-an-hour” program. The waiver would only apply to persons participating in the program.

The MSTP is a nonprofit educational corporation. It owns and operates in 1941 Lima-built steam locomotive. The locomotive, ex-Pere Marquette No. 1225, has operated approximately 5200 miles since 1988 over the general railroad system of transportation. The MSTP is located at the steam locomotive restoration facility (Institute for Steam Railroading) in Owosso, Michigan. The MSTP gains access to TSBY trackage at this location. It does not own or control any trackage with the exception of two lead tracks extending from siding tracks, each approximately 130 feet in length. These tracks are leased from the TSBY. The MSTP plans to conduct this program in either of two locations. The first is the San Yard, between Mile Post (MP) 105.2, on the TSBY track at the point where it meets the Central Michigan Railroad west of Legion Road, to MP 106.1, south of the highway/railroad grade crossing at Gould and Corunna Road. The second location is at the Henderson, Michigan Grain Elevator, on the St. Charles Branch of the TSBY between MP 70.2 and MP 69.2, north of the highway/railroad grade crossing at Riley Road. The proposed dates of operation will be three consecutive weekends between the months of June and September.

MSTP's argument for granting this waiver is twofold. First, “to accomplish a part of our mission statement, i.e., to operate the locomotive in an effort to educate the public as to what steam power looked, sounded, smelled, and felt like by providing a hands-on approach.” Second, “to generate needed interest and revenue so that we may continue to educate the public about steam locomotive technology, in an effort that the next generation will keep the knowledge, and the 1225, alive into the future.”

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket No. FRA-2001-10379) and must be submitted to the Docket Clerk, DOT Central Docket Management Facility, Room PL-401, Nassif Building, 400 Seventh Street, SW., Washington, DC 20590. Communications received within 45 days of the date of this notice will be considered by FRA before final action is taken. Comments received after that date will be considered as far as practicable. All written communications concerning these proceedings are available for examination during regular business hours at the above facility. All written communications are also accessible on the Internet at http://dms.dot.gov.

Issued in Washington, D.C. on September 21, 2001.
Grady C. Cothen, Jr.,
Deputy Associate Administrator for Safety Standards and Program Development.

[FR Doc. 01-24478 Filed 9-28-01; 8:45 am]

BILLING CODE 4910-06-M